INTERNATIONAL TRADE COMMISSION

[Investigation No. 337-TA-626]

In the Matter of: Certain Noise Cancelling Headphones; Notice of a Commission Determination Not To Review an Initial Determination Terminating the Investigation on the Basis of Settlement Agreements

AGENCY: U.S. International Trade Commission.

ACTION: Notice.

SUMMARY: Notice is hereby given that the U.S. International Trade Commission has determined not to review an initial determination (“ID”) (Order No. 26) of the presiding administrative law judge (“ALJ”) in the above-captioned investigation terminating the investigation on the basis of settlement agreements.

FOR FURTHER INFORMATION CONTACT: Michael K. Haldenstein, Office of the General Counsel, U.S. International Trade Commission, 500 E Street, SW., Washington, DC 20436, telephone (202) 205-3041. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 26, 2007, based on a complaint filed by Bose Corporation of Framingham, Massachusetts (“Bose”). 73 FR 882 (January 4, 2008). The complaint, as supplemented, alleged violations of section 337 of the Tariff Act of 1930 (19 U.S.C. 1337) in the importation into the United States, the sale for importation, and the sale within the United States after importation of certain noise-cancelling headphones by reason of infringement of certain claims of United States Patent Nos. 5,181,252 and 6,597,792. The complaint named as respondents Phitek Systems Limited of New Zealand (“Phitek New Zealand”); Phitek Systems Limited of San Jose, California; GN Netcom, Inc. of Nashua, New Hampshire; Audio-Technica U.S., Inc. of Stow, Ohio (“Audio-Technica”); Creative Labs, Inc. of Milpitas, California (“Creative”); Logitech Inc. of Fremont, California; and Panasonic Corporation of North America of Secaucus, New Jersey (“Panasonic”).

On November 18, 2008, complainant and four remaining respondents, Phitek New Zealand, Audio-Technica, Creative, and Panasonic, filed a joint motion pursuant to Commission rule 210.21 for termination of the investigation based upon two settlement agreements. One settlement agreement is between Bose and Panasonic, and the other settlement agreement is between Bose and Phitek New Zealand, Audio-Technica, and Creative. The Commission investigative attorney filed a response in support of the motion.

On December 4, 2008, the ALJ issued the subject ID, granting the joint motion and terminating the investigation with respect to all remaining respondents on the basis of the settlement agreements. No petitions for review were filed and the Commission has determined not to review the subject ID. The investigation is terminated.

This action is taken under the authority of section 337 of the Tariff Act of 1930, as amended, 19 U.S.C. 1337, and Commission rules 210.21, 210.42, 19 CFR 210.21, 210.42.

By order of the Commission.
Issued: January 2, 2009.
Marilyn R. Abbott,
Secretary to the Commission.

[FR Doc. E9-80 Filed 1-7-09; 8:45 am]

BILLING CODE 7020-02-P